OFFICE OF THE UNITED STATES TRADE REPRESENTATIVE

[Docket No. USTR-2019-0003]

Review of Action: Enforcement of U.S. WTO Rights in Large Civil Aircraft Dispute

AGENCY: Office of the United States Trade Representative.

ACTION: Request for comments.

SUMMARY: The U.S. Trade Representative is reviewing the action being taken in the Section 301 investigation involving the enforcement of U.S. WTO rights in the Large Civil Aircraft dispute. Annex I to this notice contains a list of products currently subject to additional duties. Annex II contains a list of products, originally published in the April 2019 and July 2019 notices in this investigation, under consideration for the imposition of additional ad valorem duties of up to 100 percent. The Office of the United States Trade Representative (USTR) requests comments with respect to whether products listed in Annex I should be removed from the list or remain on the list; whether the rate of additional duty on specific products should be increased up to a level of 100 percent; whether additional duties should be imposed on specific products listed in Annex II; and on the rate of additional duty to be applied to products drawn from Annex II.

DATES: To be assured of consideration, submit comments by January 13, 2020.

ADDRESSES: USTR strongly prefers electronic submissions made through the Federal Rulemaking Portal: https://www.regulations.gov, using docket number USTR-2019-0003. Follow the instructions for submitting comments in “Requirements for Submissions” below. To discuss whether alternative arrangements to on-line submissions are possible, please contact the USTR Section 301 line at (202) 395-5725.

FOR FURTHER INFORMATION CONTACT: For questions about the investigation, contact Assistant General Counsel Megan Grimball at (202) 395-5725, or Director for Europe Michael Rogers at (202) 395-3320. For questions on customs classification of products identified in the annexes to this notice, contact Traderemedy@cbp.dhs.gov.

SUPPLEMENTARY INFORMATION:

A. Proceedings in the Investigation

For background on the proceedings in this investigation, please see the prior notices issued in the investigation: 84 FR 15028 (April 12, 2019), 84 FR 32248 (July 5, 2019), 84 FR 54245 (October 9, 2019), and 84 FR 55998 (October 18, 2019).

B. Review of the Action in the Investigation

The U.S. Trade Representative is reviewing the action being taken in the investigation. USTR invites public comments with respect to the maintenance or imposition of additional duties on the specific products of specific EU member states indicated on the lists in the Annexes to this notice. Annex I lists the specific products of specific EU member states that currently are subject to additional duties of 10 or 25 percent. See 84 FR 54245 and 84 FR 55998. Annex II lists products of EU member states for which additional duties of up to 100 percent previously had been proposed, but for which no additional duties have yet been imposed in this investigation. See 84 FR 15028 and 84 FR 32248.

With respect to products listed in Annex I, USTR invites interested persons to comment on whether specific products of specific EU member states should be removed from the list or should remain on the list, and if a product remains on the list, whether the current rate of additional duty should be increased to as high as 100 percent.

With respect to products listed in Annex II, USTR invites interested persons to comment on whether specific products of specific EU member states should be included on a revised list of products subject to additional duties, and the rate of additional duty (as high as 100 percent) that should be imposed.

USTR invites interested persons to address:

(i) Whether maintaining or imposing additional duties on a specific product of one or more specific EU member states would be appropriate to enforce U.S. WTO rights or to obtain the elimination of the EU's WTO-inconsistent measures, and/or would be likely to result in the EU implementing the DSB recommendations in the Large Civil Aircraft dispute or in achieving a mutually satisfactory solution.

(ii) Whether maintaining or imposing additional duties on specific products of one or more specific EU member states would cause disproportionate economic harm to U.S. interests, including small or medium-size businesses and consumers.

C. Requirements for Submissions

All submissions must be in English and sent electronically via www.regulations.gov. To submit comments via www.regulations.gov, enter docket number USTR-2019-0003 on the home page and click “search.” The site will provide a search results page listing all documents associated with this docket. Find a reference to this notice and click on the link entitled “comment now!” For further information on using the www.regulations.gov website, please consult the resources provided on the website by clicking on “how to use regulations.gov” on the bottom of the www.regulations.gov home page. USTR will not accept hand-delivered submissions.

The www.regulations.gov website allows users to submit comments by filling in a “type comment” field or by attaching a document using an “upload file” field. USTR prefers that you submit comments in an attached document. If you attach a document, it is sufficient to type “see attached” in the “type comment” field. USTR strongly prefers submissions in Adobe Acrobat (.pdf). If you use an application other than Adobe Acrobat or Word (.doc), please indicate the name of the application in the “type comment” field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

Do not submit comments containing business confidential information (BCI) via www.regulations.gov. Instead, email any comments containing BCI to 301aircraft@ustr.eop.gov. The file name of the business confidential version should begin with the characters `BC'. For any comments submitted electronically containing BCI, the file name of the business confidential version should begin with the characters `BC'. Any page containing BCI must be clearly marked “BUSINESS CONFIDENTIAL” on the top of that page and the submission should clearly indicate, via brackets, highlighting, or other means, the specific information that is business confidential. If you request business confidential treatment, you must certify in writing that disclosure of the information would endanger trade secrets or profitability, and that the information would not customarily be released to the public. Filers of submissions containing BCI also must submit a public version of their comments. The file name of the public version should begin with the character `P'. The `BC' and `P' should be followed by the name of the person or entity submitting the comments. If these procedures are not sufficient to protect BCI or otherwise protect business interests, please contact the USTR Section 301 line at (202) 395-5725 to discuss whether alternative arrangements are possible.

USTR will post submissions in the docket for public inspection, except BCI. You can view submissions on the https://www.regulations.gov website by entering docket number USTR-2019-0003 in the search field on the home page.

Joseph Barloon,
General Counsel, Office of the U.S. Trade Representative.

Annex I

Products Currently Subject to Additional Duties in the Investigation

Note: The product descriptions that are contained this Annex are provided for informational purposes only, and are not intended to delimit in any way the scope of the action, except as specified below. In all cases, the formal language in the notices published at 84 FR 54245 and 84 FR 55998 governs the tariff treatment of products covered by the action. Any questions regarding the scope of particular HTS subheadings should be referred to U.S. Customs and Border Protection. In the product descriptions, the abbreviation “nesoi” means “not elsewhere specified or included”.

Part 1—Products of France, Germany, Spain, or the United Kingdom described below are subject to additional import duties of 10 percent ad valorem:

Note: For purposes of the 8-digit subheading of HTS listed below, the product description defines and limits the scope of the proposed action.

HTS subheading | Product description
8802.40.00 ** | New airplanes and other new aircraft, as defined in U.S. note 21(b), (other than military airplanes or other military aircraft), of an unladen weight exceeding 30,000 kg (described in statistical reporting numbers 8802.40.0040, 8802.40.0060 or 8802.40.0070).
** Only a portion of HS8 digit is to be covered

Part 2—Products of Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0403.10.50 | Yogurt, in dry form, whether or not flavored or containing add fruit or cocoa, not subject to gen nte 15 or add. US nte 10 to Ch.4.
0403.90.85 | Fermented milk o/than dried fermented milk or o/than dried milk with added lactic ferments.
0403.90.90 | Curdled milk/cream/kephir & other fermentd or acid. milk/cream subject to add US note 10 to Ch.4.
0405.20.20 | Butter substitute dairy spreads, over 45% butterfat weight, subject to quota pursuant to chapter 4 additional US note 14.
0406.10.28 | Fresh (unripened/uncured) cheddar cheese, cheese/subs for cheese cont or proc from cheddar cheese, not subj to Ch4 US note 18, not GN15.
0406.10.54 | Fresh (unripened/uncured) Italian-type cheeses from cow milk, cheese/substitutes cont or proc therefrom, subj to Ch4 US nte 21, not GN15.
0406.10.58 | Fresh (unrip./uncured) Italian-type cheeses from cow milk, cheese/substitutes cont or proc therefrom, not subj to Ch4 US note 21 or GN15.
0406.10.68 | Fresh (unripened/uncured) Swiss/emmentaler cheeses exc eye formation, gruyere-process cheese and cheese cont or proc. from such, not subj.
0406.20.51 | Romano, reggiano, provolone, provoletti, sbrinz and goya, made from cow's milk, grated or powdered, subject to add US note 21 to Ch.4.
0406.20.53 | Romano, reggiano, provolone, provoletti, sbrinz and goya, made from cow's milk, grated or powdered, not subj to Ch4 US nte 21 or GN15.
0406.20.69 | Cheese containing or processed from american-type cheese (except cheddar), grated or powdered, subject to add US note 19 to Ch. 4.
0406.20.77 | Cheese containing or processed from italian-type cheeses made from cow's milk, grated or powdered, subject to add US note 21 to Ch. 4.
0406.20.79 | Cheese containing or processed from italian-type cheeses made from cow's milk, grated or powdered, not subject to add US note 21 to Ch. 4.
0406.20.87 | Cheese (including mixtures), nesoi, n/o 0.5% by wt. of butterfat, grated or powdered, not subject to add US note 23 to Ch. 4.
0406.20.91 | Cheese (including mixtures), nesoi, o/0.5% by wt of butterfat, w/cow's milk, grated or powdered, not subject to add US note 16 to Ch. 4.
0406.30.05 | Stilton cheese, processed, not grated or powdered, subject to add US note 24 to Ch. 4.
0406.30.18 | Blue-veined cheese (except roquefort), processed, not grated or powdered, not subject to gen. note 15 or add. US note 17 to Ch. 4.
0406.30.28 | Cheddar cheese, processed, not grated or powdered, not subject to gen note 15 or in add US note 18 to Ch. 4.
0406.30.34 | Colby cheese, processed, not grated or powdered, subject to add US note 19 to Ch. 4.
0406.30.38 | Colby cheese, processed, not grated or powdered, not subject to gen note 15 or add US note 19 to Ch. 4.
0406.30.55 | Processed cheeses made from sheep's milk, including mixtures of such cheeses, not grated or powdered.
0406.30.69 | Processed cheese cont/procd fr american-type cheese (ex cheddar), not grated/powdered, subject to add US note 19 to Ch. 4, not GN15.
0406.30.79 | Processed cheese cont/procd from italian-type, not grated/powdered, not subject to add US note 21 to Ch. 4, not GN15.
0406.40.44 | Stilton cheese, nesoi, in original loaves, subject to add. US note 24 to Ch. 4.
0406.40.48 | Stilton cheese, nesoi, not in original loaves, subject to add. US note 24 to Ch. 4.
0406.90.32 | Goya cheese from cow's milk, not in original loaves, nesoi, not subject to gen. note 15 or to add. US note 21 to Ch. 4.
0406.90.43 | Reggiano, Parmesan, Provolone, and Provoletti cheese, nesoi, not from cow's milk, not subject to gen. note 15.
0406.90.52 | Colby cheese, nesoi, subject to add. US note 19 to Ch. 4 and entered pursuant to its provisions.
0406.90.54 | Colby cheese, nesoi, not subject to gen. note 15 or to add. US note 19 to Ch. 4.
0406.90.68 | Cheeses & subst. for cheese(incl. mixt.), nesoi, w/romano/reggiano/parmesan/provolone/etc, f/cow milk, not subj. Ch4 US note 21, not GN15.
0406.90.72 | Cheeses & subst. for cheese (incl. mixt.), nesoi, w/or from blue-veined cheese, subj. to add. US note 17 to Ch.4, not GN15.
0406.90.74 | Cheeses & subst. for cheese (incl. mixt.), nesoi, w/or from blue-veined cheese, not subj. to add. US note 17 to Ch.4, not GN15.
0406.90.82 | Cheeses & subst. for cheese (incl. mixt.), nesoi, w/or from Am. cheese except cheddar, subj. to add. US note 19 to Ch.4, not GN15.
0406.90.92 | Cheeses & subst. for cheese (incl. mixt.), nesoi, w/or from swiss, emmentaler or gruyere, not subj. Ch4 US note 22, not GN15.
0406.90.94 | Cheeses & subst. for cheese (incl. mixt.), nesoi, w/butterfat n/o 0.5% by wt, not subject to add. US note 23 to Ch. 4, not GN15.
0805.10.00 | Oranges, fresh or dried.
0805.21.00 | Mandarins and other similar citrus hybrids including tangerines, satsumas, clementines, wilkings, fresh or dried.
0805.22.00 | Clementines, fresh or dried, other.
0805.50.20 | Lemons, fresh or dried.
0812.10.00 | Cherries, provisionally preserved, but unsuitable in that state for immediate consumption.
0813.40.30 | Cherries, dried.
1602.49.10 | Prepared or preserved pork offal, including mixtures.
1605.53.05 | Mussels, containing fish meats or in prepared meals.
1605.56.05 | Products of clams, cockles, and arkshells containing fish meat; prepared meals.
1605.56.10 | Razor clams, in airtight containers, prepared or preserved, nesoi.
1605.56.15 | Boiled clams in immediate airtight containers, the contents of which do not exceed 680 g gross weight.
1605.56.20 | Clams, prepared or preserved, excluding boiled clams, in immediate airtight containers, nesoi.
1605.56.30 | Clams, prepared or preserved, other than in airtight containers.
1605.56.60 | Cockles and arkshells, prepared or preserved.
1605.59.05 | Products of molluscs nesoi containing fish meat; prepared meals of molluscs nesoi.
1605.59.60 | Molluscs nesoi, prepared or preserved.

Part 3—Products of Germany, Spain, or the United Kingdom described below are subject to additional import duties of 25 percent ad valorem:

HTS subheading | Product description
0203.29.40 | Frozen meat of swine, other than retail cuts, nesoi.
0404.10.05 | Whey protein concentrates.
0406.10.84 | Fresh cheese, and substitutes for cheese, cont. cows milk, neosi, o/0.5% by wt. of butterfat, descr in add US note 16 to Ch 4, not GN15.
0406.10.88 | Fresh cheese, and substitutes for cheese, cont. cows milk, neosi, o/0.5% by wt. of butterfat, not descr in add US note 16 to Ch 4, not GN 15.
0406.10.95 | Fresh cheese, and substitutes for cheese, not cont. cows milk, neosi, o/0.5% by wt. of butterfat.
0406.90.16 | Edam and gouda cheese, nesoi, subject to add. US note 20 to Ch. 4.
0406.90.56 | Cheeses, nesoi, from sheep's milk in original loaves and suitable for grating.
1509.10.20 | Virgin olive oil and its fractions, whether or not refined, not chemically modified, weighing with the immediate container under 18 kg.
1509.90.20 | Olive oil, other than virgin olive oil, and its fractions, not chemically modified, weighing with the immediate container under 18 kg.
2005.70.12 | Olives, green, not pitted, in saline, not ripe.
2005.70.25 | Olives, green, in a saline solution, pitted or stuffed, not place packed.

Part 4—Products of Austria, Belgium, Bulgaria, Croatia, Cyprus, Czech Republic, Denmark, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0403.10.90 | Yogurt, not in dry form, whether or not flavored or containing add fruit or cocoa.
0405.10.10 | Butter subject to quota pursuant to chapter 4 additional US note 6.
0405.10.20 | Butter not subject to general note 15 and in excess of quota in chapter 4 additional U.S. note 6.
0406.30.89 | Processed cheese (incl. mixtures), nesoi, w/cow's milk, not grated or powdered, subject to add US note 16 to Ch. 4, not GN15.
0406.90.99 | Cheeses & subst. for cheese (incl. mixt.), nesoi, w/o cows milk, w/butterfat o/0.5% by wt, not GN15.
0811.90.80 | Fruit, nesoi, frozen, whether or not previously steamed or boiled.
1601.00.20 | Pork sausages and similar products of pork, pork offal or blood; food preparations based on these products.
2008.60.00 | Cherries, otherwise prepared or preserved, nesoi.
2008.70.20 | Peaches (excluding nectarines), otherwise prepared or preserved, not elsewhere specified or included.
2008.97.90 | Mixtures of fruit or other edible parts of plants, otherwise prepared or preserved, nesoi (excluding tropical fruit salad).
2009.89.65 | Cherry juice, concentrated or not concentrated.
2009.89.80 | Juice of any single vegetable, other than tomato, concentrated or not concentrated.

Part 5—Products of Austria, Belgium, Bulgaria, Croatia, Cyprus, Czech Republic, Denmark, Estonia, Finland, France, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0405.20.30 | Butter substitute dairy spreads, over 45% butterfat weight, not subj to gen note 15 and in excess of quota in Ch. 4 additional U.S. note 14.
0405.20.80 | Other dairy spreads, not butter substitutes or of a type provided for in chapter 4 additional U.S. note 1.
0406.30.85 | Processed cheese (incl. mixtures), nesoi, n/o 0.5% by wt. butterfat, not grated or powdered, subject to Ch. 4 U.S. note 23, not GN15.
0406.90.78 | Cheeses & subst. for cheese (incl. mixt.), nesoi, w/or from cheddar cheese, not subj. to add. U.S. note 18 to Ch. 4, not GN15.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.40 | Prepared or preserved pork, not containing cereals or vegetables, nesoi.
1602.49.90 | Prepared or preserved pork, nesoi.

Part 6—Products of Austria, Belgium, Bulgaria, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0405.90.10 | Fats and oils derived from milk, other than butter or dairy spreads, subject to quota pursuant to chapter 4 additional U.S. note 14.
0406.30.51 | Gruyere-process cheese, processed, not grated or powdered, subject to add. U.S. note 22 to Ch. 4.
0406.30.53 | Gruyere-process cheese, processed, not grated or powdered, not subject to gen note 15 or add. U.S. note 22 to Ch. 4.
0406.40.54 | Blue-veined cheese, nesoi, in original loaves, subject to add. U.S. note 17 to Ch. 4.
0406.90.08 | Cheddar cheese, neosi, subject to add U.S. note 18 to Ch. 4.
0406.90.12 | Cheddar cheese, nesoi, not subject to gen. note 15 of the HTS or to add. U.S. note 18 to Ch. 4.
0406.90.41 | Romano, Reggiano, Parmesan, Provolone, and Provoletti cheese, nesoi, from cow's milk, subject to add. U.S. note 21 to Ch. 4.
0406.90.42 | Romano, Reggiano, Parmesan, Provolone, and Provoletti cheese, nesoi, from cow's milk, not subj to GN 15 or Ch. 4 U.S. note 21.
0406.90.48 | Swiss or Emmentaler cheese with eye formation, nesoi, not subject to gen. note 15 or to add. U.S. note 25 to Ch. 4.
0406.90.90 | Cheeses & subst. for cheese (incl. mixt.), nesoi, w/or from swiss, emmentaler or gruyere, subj. to add. U.S. note 22 to Ch.4, not GN15.
0406.90.97 | Cheeses & subst. for cheese (incl. mixt.), nesoi, w/cows milk, w/butterfat o/0.5% by wt, not subject to Ch. 4 U.S. note 16, not GN15.
1605.53.60 | Mussels, prepared or preserved.
2007.99.70 | Currant and berry fruit jellies.
2008.40.00 | Pears, otherwise prepared or preserved, nesoi.
2009.89.20 | Pear juice, concentrated or not concentrated.
2009.89.40 | Prune juice, concentrated or not concentrated.

Part 7—Products of Austria, Belgium, Bulgaria, Croatia, Cyprus, Czech Republic, Denmark, Estonia, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0406.90.46 | Swiss or Emmentaler cheese with eye formation, nesoi, subject to add. U.S. note 25 to Ch. 4.

Part 8—Products of Austria, Belgium, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0406.90.57 | Pecorino cheese, from sheep's milk, in original loaves, not suitable for grating.

Part 9—Products of Austria, Belgium, Bulgaria, Croatia, Cyprus, Czech Republic, Denmark, Estonia, Finland, Germany, Greece, Hungary, Ireland, Italy, Latvia, Luxembourg, Malta, Netherlands, Portugal, Romania, Slovakia, Slovenia, Spain, Sweden, or the United Kingdom described below are subject to additional import duties of 25 percent ad valorem:

HTS subheading | Product description
0406.90.95 | Cheeses & subst. for cheese (incl. mixt.), nesoi, w/cows milk, w/butterfat o/0.5% by wt, subject to Ch. 4 U.S. note 16 (quota).

Part 10—Products of France, Germany, Spain or the United Kingdom described below are subject to additional import duties of 25 percent ad valorem:

HTS subheading | Product description
0711.20.18 | Olives, n/pitted, green, in saline sol., in contain. > 8 kg, drained wt, for repacking or sale, subject to add U.S. note 5 to Ch. 7.
0711.20.28 | Olives, n/pitted, green, in saline sol., in contain. > 8 kg, drained wt, for repacking or sale, not subject to add U.S. note 5 to Ch. 7.
0711.20.38 | Olives, n/pitted, nesoi.
0711.20.40 | Olives, pitted or stuffed, provisionally preserved but unsuitable in that state for immediate consumption.
2005.70.08 | Olives, green, not pitted, in saline, not ripe, in containers holding o/8 kg for repkg, not subject to add U.S. note 4 to Ch. 20.
2005.70.16 | Olives, green, in saline, place packed, stuffed, in containers holding n/o 1 kg, aggregate quantity n/o 2700 m ton/yr.
2005.70.23 | Olives, green, in saline, place packed, stuffed, not in containers holding 1 kg or less.
2204.21.50 | Wine other than Tokay (not carbonated), not over 14% alcohol, in containers not over 2 liters.

Part 11—Products of Germany described below are subject to additional import duties of 25 percent ad valorem:

HTS subheading | Product description
0901.21.00 | Coffee, roasted, not decaffeinated.
0901.22.00 | Coffee, roasted, decaffeinated.
2101.11.21 | Instant coffee, not flavored.
8201.40.60 | Axes, bill hooks and similar hewing tools (o/than machetes), and base metal parts thereof.
8203.20.20 | Base metal tweezers.
8203.20.60 | Pliers (including cutting pliers but not slip joint pliers), pincers and similar tools.
8203.30.00 | Metal cutting shears and similar tools, and base metal parts thereof.
8203.40.60 | Pipe cutters, bolt cutters, perforating punches and similar tools, nesoi, and base metal parts thereof.
8205.40.00 | Screwdrivers and base metal parts thereof.
8211.93.00 | Knives having other than fixed blades.
8211.94.50 | Base metal blades for knives having other than fixed blades.
8467.19.10 | Tools for working in the hand, pneumatic, other than rotary type, suitable for metal working.
8467.19.50 | Tools for working in the hand, pneumatic, other than rotary type, other than suitable for metal working.
8468.80.10 | Machinery and apparatus, hand-directed or -controlled, used for soldering, brazing or welding, not gas-operated.
8468.90.10 | Parts of hand-directed or -controlled machinery, apparatus and appliances used for soldering, brazing, welding or tempering.
8514.20.40 | Industrial or laboratory microwave ovens for making hot drinks or for cooking or heating food.
9002.11.90 | Objective lenses and parts & access. thereof, for cameras, projectors, or photographic enlargers or reducers, except projection, nesoi.

Part 12—Products of Austria, Belgium, Bulgaria, Croatia, Cyprus, Czech Republic, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
1602.49.20 | Pork other than ham and shoulder and cuts thereof, not containing cereals or vegetables, boned and cooked and packed in airtight containers.

Part 13—Products of Germany or the United Kingdom described below are subject to additional import duties of 25 percent ad valorem:

HTS subheading | Product description
1905.31.00 | Sweet biscuits.
1905.32.00 | Waffles and wafers.
4901.10.00 | Printed books, brochures, leaflets and similar printed matter in single sheets, whether or not folded.
4908.10.00 | Transfers (decalcomanias), vitrifiable.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
8429.52.10 | Self-propelled backhoes, shovels, clamshells and draglines with a 360 degree revolving superstructure.
8429.52.50 | Self-propelled machinery with a 360 degree revolving superstructure, other than backhoes, shovels, clamshells and draglines.
8467.29.00 | Electromechanical tools for working in the hand, other than drills or saws, with self-contained electric motor.

Part 14—Products of Germany, Ireland, Italy, Spain, or the United Kingdom described below are subject to additional import duties of 25 percent ad valorem:

HTS subheading | Product description
2208.70.00 | Liqueurs and cordials.

Part 15—Products of the United Kingdom described below are subject to additional import duties of 25 percent ad valorem:

Note: For purposes of 2208.30.30, the product description defines and limits the scope of the proposed action.

HTS subheading | Product description
2208.30.30 ** | Single-malt Irish and Scotch Whiskies (described in 2208.30.30).
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.20.20 | Sweaters, pullovers and similar articles, knitted or crocheted, of cotton, nesoi.
6110.30.30 | Sweaters, pullovers and similar articles, knitted or crocheted, of manmade fibers, nesoi.
6202.99.15 | Rec perf outwear, women's/girls' anoraks, wind-breakers & similar articles, not k/c, tex mats (not wool, cotton or mmf), cont < 70% by wt of silk.
6202.99.80 | Women's/girls' anoraks, wind-breakers & similar articles, not k/c, of tex mats (not wool, cotton or mmf), cont < 70% by wt of silk.
6203.11.60 | Men's or boys' suits of wool, not knitted or crocheted, nesoi, of wool yarn with average fiber diameter of 18.5 micron or less.
6203.11.90 | Men's or boys' suits of wool or fine animal hair, not knitted or crocheted, nesoi.
6203.19.30 | Men's or boys' suits, of artificial fibers, nesoi, not knitted or crocheted.
6203.19.90 | Men's or boys' suits, of textile mats(except wool, cotton or mmf), containing under 70% by weight of silk or silk waste, not knit or croch.
6208.21.00 | Women's or girls' nightdresses and pajamas, not knitted or crocheted, of cotton.
6211.12.40 | Women's or girls' swimwear, of textile materials(except mmf), containing 70% or more by weight of silk or silk waste, not knit or crocheted.
6211.12.80 | Women's or girls' swimwear, of textile materials(except mmf), containing under 70% by weight of silk or silk waste, not knit or crocheted.
6301.30.00 | Blankets (other than electric blankets) and traveling rugs, of cotton.
6301.90.00 | Blankets and traveling rugs, nesoi.
6302.21.50 | Bed linen, not knit or crocheted, printed, of cotton, cont any embroidery, lace, braid, edging, trimming, piping or applique work, n/napped.
6302.21.90 | Bed linen, not knit or croc, printed, of cotton, not cont any embroidery, lace, braid, edging, trimming, piping or applique work, not napped.
** Only a portion of HS8 digit is to be covered.

Annex II

Products Not Currently Subject to Additional Duties in the Investigation

Note: The product descriptions that are contained this Annex are provided for informational purposes only, and are not intended to delimit in any way the scope of the action, except as specified in Sections 1 and 16. Any questions regarding the scope of a particular HTS subheadings should be referred to U.S. Customs and Border Protection. In the product descriptions, the abbreviation “nesoi” means “not elsewhere specified or included”.

Section 1—The products that are described in Section 1 of this Annex are being considered for additional import duties if they are the product of France, Germany, Spain or the United Kingdom.

Note: For purposes of statistical reporting numbers with an asterisks listed below, the informal product descriptions define and limit the scope of the proposed action.

HTS statistical reporting No. | Product description
8802.11.0030 | New helicopters, non-military, of an unladen weight not exceeding 998 kg.
8802.11.0045 | New helicopters, non-military, of an unladen weight exceeding 998 kg but not exceeding 2,000 kg.
8802.12.0040 | New helicopters, non-military, of an unladen weight exceeding 2,000 kg.
8802.40.0040 * | New aircraft, passenger transports, non-military, of an unladen weight exceeding 15,000 kg but less than or equal to 30,000 kg.
8802.40.0060 * | New aircraft, cargo transports, non-military, of an unladen weight exceeding 15,000 kg but less than or equal to 30,000 kg.
8802.40.0070 * | New aircraft, non-military, nesoi (including passenger/cargo combinations), of an unladen weight exceeding 15,000 kg but less than or equal to 30,000 kg.
8803.20.0030 * | Undercarriages and parts thereof for use in new civil aircraft, not for use by the Department of Defense or the U.S. Coast Guard, of an unladen weight exceeding 15,000 kg provided for in statistical reporting numbers 8802.40.0040, 8802.40.0060 and 8802.40.0070.
8803.30.0030 * | Fuselages and fuselage sections, predominantly aluminum wings and wing assemblies, and horizontal and vertical stabilizers for use in new civil airplanes, not for use by the Department of Defense or the U.S. Coast Guard, of an unladen weight exceeding 15,000 kg provided for in statistical reporting numbers 8802.40.0040, 8802.40.0060 and 8802.40.0070.
8803.90.9030 * | Other parts, nesoi, for use in new civil aircraft, not for use by the Department of Defense or the U.S. Coast Guard, of an unladen weight exceeding 15,000 kg provided for in statistical reporting numbers 8802.40.0040, 8802.40.0060 and 8802.40.0070.
* The products intended to be covered by the proposed action in these statistical reporting numbers are a subsection of the products classified in these statistical reporting numbers.

Section 2—The products that are described in Section 2 of this Annex are being considered for additional import duties if they are the product of Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, Sweden, or the United Kingdom.

HTS subheading | Product description
0203.22.90 | Frozen hams, shoulders and cuts thereof, with bone in, other than retail cuts.
0303.57.00 | Swordfish steaks, other swordfish, excluding fillets, other meat portions, livers and roes.
0304.41.00 | Salmon fillets, fresh or chilled.
0304.42.00 | Trout, fillets, fresh or chilled.
0304.84.00 | Frozen swordfish fillets.
0306.14.20 | Crabmeat, frozen.
0306.14.40 | Crabs, cooked in shell or uncooked (whether in shell or not), dried, salted or in brine, frozen.
0306.19.00 | Crustaceans, nesoi (including flours, meals and pellets of crustaceans fit for human consumption), cooked in shell or uncooked, etc., frozen.
0403.90.95 | Curdled milk/cream/kephir & other fermentd or acid. milk/cream subj to GN 15 or Ch. 4 U.S. note 10.
0406.10.44 | Fresh (unripened/uncured) edam and gouda cheeses, cheese/subs for cheese cont or processed therefrom, subj to Ch. 4 U.S. note 20, not GN15.
0406.10.48 | Fresh (unripened/uncured) edam and gouda cheeses, cheese/subs for cheese cont or processed therefrom, not sub to Ch. 4 U.S. note 20, not GN15.
0406.20.10 | Roquefort cheese, grated or powdered.
0406.30.48 | Edam and gouda cheese, processed, not grated or powdered, not subject to gen note 15 or add. U.S. note 20 to Ch. 4.
0406.90.86 | Cheeses & subst. for cheese (incl. mixt.), nesoi, w/or from edam or gouda cheese, subj. to add. U.S. note 20 to Ch. 4, not GN15.
0406.90.88 | Cheeses & subst. for cheese (incl. mixt.), nesoi, w/or from edam or gouda cheese, not subj. to add. U.S. note 20 to Ch. 4, not GN15.
0805.29.00 | Wilkings and similar citrus hybrids, fresh or dried, other.
0805.40.80 | Grapefruit, fresh or dried, if entered during the period November 1 through the following July 31, inclusive.
0805.50.30 | Tahitian lines, Persian limes and other limes of the Citrus latifolia variety, fresh or dried.
0805.50.40 | Limes of the Citrus aurantifolia variety, fresh or dried.
0805.90.01 | Citrus fruit, not elsewhere specified or included, fresh or dried, including kumquats, citrons and bergamots.
0812.90.10 | Mixtures of two or more fruits, provisionally preserved, but unsuitable in that state for consumption.
1509.10.40 | Virgin olive oil and its fractions, whether or not refined, not chemically modified, weighing with the immediate container 18 kg or over.
1509.90.40 | Olive oil, other than virgin olive oil, and its fractions, not chemically modified, weighing with the immediate container 18 kg or over.
1602.41.20 | Pork hams and cuts thereof, not containing cereals or vegetables, boned and cooked and packed in airtight containers.
1604.11.40 | Prepared or preserved salmon, whole or in pieces, but not minced, other than in oil and in airtight containers.
1604.12.60 | Herrings prepared or preserved, whole or in pieces, but not minced, nesoi.
1605.30.10 | Lobster, prepared or preserved, not containing fish meat, nesoi.
1605.51.05 | Oysters, fish meat or prepared meals.
1605.51.40 | Smoked oysters.
1605.51.50 | Oysters, prepared or preserved, but not smoked.
1605.52.05 | Scallops, including queen scallops as containing fish meat; prepared meals.
1605.52.60 | Scallops, including queen scallops, prepared or preserved.
1605.54.05 | Cuttle fish and squid, as containing fish meat; prepared meals.
1605.54.60 | Cuttle fish and squid, prepared or preserved.
1605.55.05 | Octopus, as containing fish meat or prepared meals.
1605.55.60 | Octopus, prepared or preserved.
1605.57.05 | Products of abalone containing fish meat; prepared meals of abalone.
1605.57.60 | Abalone, prepared or preserved.
1605.58.05 | Products of snails, other than sea snails, containing fish meat; prepared meals of snails other than sea snails.
1605.58.55 | Prepared or preserved snails, other than sea snails.
1902.11.20 | Uncooked pasta, not stuffed or otherwise prepared, containing eggs, exclusively pasta.
1902.11.40 | Uncooked pasta, not stuffed or otherwise prepared, containing eggs, nesoi, including pasta packaged with sauce preparations.
1902.19.20 | Uncooked pasta, not stuffed or otherwise prepared, not containing eggs, exclusively pasta.
1902.19.40 | Uncooked pasta, not stuffed or otherwise prepared, not containing eggs, nesoi, including pasta packaged with sauce preparations.
1902.20.00 | Stuffed pasta, whether or not cooked or otherwise prepared.
1902.30.00 | Pasta nesoi.
2007.99.15 | Currant and other berry jams, nesoi.
2007.99.20 | Apricot jam.
2007.99.25 | Cherry jam.
2007.99.30 | Guava jam.
2007.99.35 | Peach jam.
2007.99.40 | Pineapple jam.
2007.99.45 | Jams, nesoi.
2007.99.48 | Apple, quince and pear pastes and purees, being cooked preparations.
2007.99.50 | Guava and mango pastes and purees, being cooked preparations.
2007.99.55 | Papaya pastes and purees, being cooked preparations.
2007.99.60 | Strawberry pastes and purees, being cooked preparations.
2007.99.65 | Fruit pastes and purees, nesoi, and nut pastes and purees, being cooked preparations.
2103.90.80 | Mixed condiments and mixed seasonings, not described in add U.S. note 3 to Ch. 21.
2201.90.00 | Waters (incl. ice, snow and steam), ot/than mineral waters or aerated waters, not cont. added sugar or other sweetening matter nor flavored.
2202.91.00 | Nonalcoholic beer.
2202.99.10 | Chocolate milk drink.
2202.99.36 | Juice of any single fruit or vegetable (except orange juice) fortified with vitamins or minerals, in nonconcentrated form.
2202.99.37 | Fruit or vegetable juices, fortified with vitamins or minerals, mixtures of juices in non-concentrated form.
2204.10.00 | Sparkling wine, made from grapes.
2204.21.20 | Effervescent grape wine, in containers holding 2 liters or less.
2204.21.30 | Tokay wine (not carbonated) not over 14% alcohol, in containers not over 2 liters.
2204.21.60 | “Marsala” wine, over 14% vol. alcohol, in containers holding 2 liters or less.
2204.21.80 | Grape wine, other than “Marsala”, not sparkling or effervescent, over 14% vol. alcohol, in containers holding 2 liters or less.
2204.22.20 | Wine of fresh grapes of an alcoholic strength by volume <=14% in containers holding <2 liters but not >10 liters.
2204.22.40 | Wine of fresh grapes of an alcoholic strength by volume >14%, in containers holding <2 liters but not >10 liters.
2204.22.60 | Wine of fresh grapes of an alcoholic strength by volume <=14% in containers holding >10 liters.
2204.22.80 | Wine of fresh grapes of an alcoholic strength by volume >14% in containers holding >10 liters.
2204.29.61 | Wine of fresh grapes of an alcoholic strength by volume <=14% in containers holding >10 liters.
2204.29.81 | Wine of fresh grapes of an alcoholic strength by volume >14% in containers holding >10 liters.
2204.30.00 | Grape must, nesoi, in fermentation or with fermentation arrested otherwise than by addition of alcohol.
2208.20.20 | Grape brandy, excluding pisco and singani, in containers not over 4 liters, not over $2.38/liter.
2208.20.30 | Grape brandy, excluding pisco and singani, in containers not over 4 liters, valued over $2.38 to $3.43/liter.
2208.20.40 | Grape brandy, excluding pisco and singani, in containers not over 4 liters, valued over $3.43/liter.
2208.20.50 | Grape brandy, excluding pisco and singani, in containers over 4 liters, not over $2.38/liter.
2208.20.60 | Grape brandy, excluding pisco and singani, in containers over 4 liters, over $2.38/liter.
2208.30.60 | Whiskies, other than Irish and Scotch whiskies.
2814.10.00 | Anhydrous ammonia.
2814.20.00 | Ammonia in aqueous solution.
3102.10.00 | Urea, whether or not in aqueous solution.
3102.21.00 | Ammonium sulfate.
3102.29.00 | Double salts and mixtures of ammonium sulfate and ammonium nitrate.
3102.30.00 | Ammonium nitrate, whether or not in aqueous solution.
3102.40.00 | Mixtures of ammonium nitrate with calcium carbonate or other inorganic nonfertilizing substances.
3102.50.00 | Sodium nitrate.
3102.60.00 | Double salts and mixtures of calcium nitrate and ammonium nitrate.
3102.80.00 | Mixtures of urea and ammonium nitrate in aqueous or ammoniacal solution.
3102.90.01 | Mineral or chemical fertilizers, nitrogenous, nesoi, including mixtures not specified elsewhere in heading 3102.
3301.12.00 | Essential oils of orange.
3301.13.00 | Essential oils of lemon.
3301.19.10 | Essential oils of grapefruit.
3301.19.51 | Essential oils of citrus fruit, other, nesoi.
3301.24.00 | Essential oils of peppermint (Mentha piperita).
3301.25.00 | Essential oils of mints, other than peppermint.
3301.29.10 | Essential oils of eucalyptus.
3301.29.20 | Essential oils of orris.
3301.29.51 | Essential oils other than those of citrus fruit, other, nesoi.
3301.30.00 | Resinoids.
3301.90.10 | Extracted oleoresins consisting essentially of nonvolatile components of the natural raw plant.
3301.90.50 | Concentrates of essential oils; terpenic by-product of the deterpenation of essential oils; aqueous distillates & solutions of essential oils.
4202.21.90 | Handbags, with or without shoulder strap or without handle, with outer surface of leather, composition or patent leather, nesoi, over $20 ea.
4417.00.80 | Wooden tools, tool bodies, tool handles, broom or brush bodies and handles nesoi; wooden boot or shoe lasts and trees.
4807.00.92 | Composite cloth-lined or reinforced paper, not surface-coated or impregnated, in rolls or sheets.
4809.90.40 | Simplex decalcomania paper in rolls over 36 cm wide or in rectangular sheets over 36 cm on side(s).
4810.14.19 | Paper and paperboard for graphic use nesoi, coated w/inorganic, n/o 150g/m2, n/o 10% fiber by mechanical/chemi-process, certain size sheets.
5205.31.00 | Multiple or cabled cotton yarn, 85% or more cotton by weight, of uncombed fibers, n/o 14 nm per single yarn, not put up for retail sale.
5206.32.00 | Multiple or cabled cotton yarn, <85% cotton by weight, of uncombed fibers, over 14 but n/o 43 nm/single yarn, not put up for retail sale.
5208.13.00 | Unbleached 3- or 4-thread twill fabrics of cotton, incl. cross twill, containing 85% or more of cotton by weight, weighing not over 200 g/m2.
5402.11.30 | Single high tenacity yarn of aramids, not put up for retail sale.
5402.11.60 | Multiple (folded) or cabled high tenacity yarn (except sewing thread) of aramids, not put up for retail sale.
5402.20.30 | Single high tenacity yarn of polyesters, not put up for retail sale.
5503.20.00 | Synthetic staple fibers, not carded, combed or otherwise processed for spinning, of polyesters.
5605.00.90 | Metalized textile yarn nesoi, of man-made monofilament or strip or the like, other than ungimped or w/twist of <5 turns per meter.
5609.00.10 | Articles of yarn, strip, twine, cordage, rope or cables nesoi, of cotton.
5609.00.20 | Articles of yarn, strip, twine, cordage, rope or cables nesoi, of vegetable fibers except cotton.
5609.00.30 | Articles of yarn, strip, twine, cordage, rope or cables nesoi, of man-made fibers.
5609.00.40 | Articles of yarn, strip or the like of man-made monofilaments, twine, cordage, rope or cables, nesoi.
5701.10.16 | Carpets & other textile floor coverings, hand-knotted or hand-inserted, w/ov 50% by weight of the pile of fine animal hair, nesoi.
5701.10.40 | Carpets and other textile floor coverings, of wool or fine animal hair, hand-hooked (tufts were inserted and knotted by hand or hand tool).
5701.10.90 | Carpets and other textile floor coverings, of wool or fine animal hair, not hand-hooked, not hand knotted during weaving.
5702.10.90 | “Kelem”, “Schumacks”, “Karamanie” and similar hand-woven rugs, other than certified hand-loomed and folklore products.
5702.41.20 | Carpets and other textile floor coverings of pile construction, woven, not tufted or flocked, made up, of wool or fine animal hair, nesoi.
5702.42.10 | Wilton, velvet and like floor coverings of pile construction, woven, not tufted or flocked, made up, of man-made textile materials.
5702.92.10 | Hand-loomed carpet & other textile floor coverings, not of pile construction, woven, made up, of man-made textile materials, nesoi.
5703.10.20 | Hand-hooked carpets and other textile floor coverings, tufted, whether or not made up, of wool or fine animal hair.
5805.00.30 | Hand-woven tapestries nesoi and needle-worked tapestries, of cotton.
5805.00.40 | Hand-woven tapestries nesoi and needle-worked tapestries, other than of cotton, wool or fine animal hair.
5806.10.24 | Narrow woven pile fastener fabric tapes (other than goods of heading 5807) of man-made fibers.
5907.00.05 | Laminated fabrics specified in note 9 to sect. XI of HTS, of m-m fiber, for theatrical, ballet, & operatic scenery & properties, incl sets.
5911.10.10 | Printers' rubberized blankets of textile fabrics.
6112.20.20 | Ski-suits, knitted or crocheted, of textile materials other than man-made fibers.
6802.10.00 | Tiles/cubes/similar arts. of natural stone, enclosable in a sq. w/a side less than 7 cm; artificially colored granules, chippings & powder.
6802.91.20 | Monumental or building stone & arts. thereof, of travertine, dressed or polished but not further worked, nesoi.
6802.91.25 | Monumental or building stone & arts. thereof, of travertine, further worked than dressed or polished, nesoi.
6802.93.00 | Monumental or building stone & arts. thereof, of granite, further worked than simply cut/sawn, nesoi.
6802.99.00 | Monumental or building stone & arts. thereof, nesoi, further worked than simply cut/sawn, nesoi.
6803.00.50 | Worked slate (other than roofing slate) and articles of slate or agglomerated slate.
6810.99.00 | Articles of cement (other than tiles, flagstones, bricks and similar arts.), of concrete or artificial stone, nesoi.
6907.21.30 | Glazed ceramic tiles having surface area <38.7cm2, surf area in sq w/side <7cm, of H2O absorp coeff by wt <=0.5%.
6912.00.35 | Ceramic (o/than porcelain or china) household table and kitchenware, in sets in which aggregate val. of arts./U.S. note 6(b) n/o $38.
6912.00.39 | Ceramic (o/than porcelain or china) household table and kitchenware, in sets in which aggregate val. of arts./U.S. note 6(b) o/$38.
6912.00.41 | Ceramic (o/than porcelain or china) hsehld steins w/pewter lids, decanters, punch bowls, spoons & rests, salt/pepper sets, etc.
6912.00.44 | Ceramic (o/than porcelain or china) household mugs and steins w/o attached pewter lids.
6912.00.45 | Ceramic (o/than porcelain or china) household tabl/kitch.ware,n/in specif. sets, cups o/$5.25/dz, saucers o/$3/dz, etc.
6912.00.46 | Ceramic (o/than porcelain or china) household serviette rings.
6912.00.48 | Ceramic (o/than porcelain or china) household tableware and kitchenware, nesoi.
6912.00.50 | Ceramic (o/than porcelain or china) household articles and toilet articles (o/than table and kitchenware), nesoi.
6913.90.30 | Earthenware ornamental articles, having a reddish-colored body and a lustrous glaze of differing colors.
6913.90.50 | Ceramic (o/than porcelain, china or eartherware) ornamental articles, nesoi.
7013.28.10 | Stemware, o/than of pressed and toughened glass, o/than lead crystal, valued n/over $0.30 each.
7013.41.10 | Glassware for table or kitchen purposes (o/than drinking glasses), of lead crystal, valued n/over $1 each.
7013.91.10 | Glassware for toilet/office/indoor decor. & similar purposes, of lead crystal, valued n/over $1 each.
7013.91.20 | Glassware for toilet/office/indoor decor. & similar purposes, of lead crystal, valued over $1 but n/over $3 each.
7016.90.10 | Paving blocks, slabs, bricks, squares, tiles & other arts. of pressed or molded glass, for building or construction purposes.
7017.10.60 | Laboratory, hygienic or pharmaceutical glassware, whether or not calibrated or graduated, of fused quartz or other fused silica, nesoi.
7019.19.05 | Fiberglass rubber reinforcing yarn, not color, of electrically nonconductive continuous filament 9 to 11 microns diam & impreg for adhesion to.
7019.19.15 | Glass fiber yarns, not colored, other than fiberglass rubber reinforcing yarn.
7019.19.28 | Glass fiber yarns, colored, other than fiberglass rubber reinforcing yarn.
7019.19.30 | Glass fiber chopped strands of a length more than 50 mm.
7110.21.00 | Palladium, unwrought or in powder form.
7114.11.60 | Articles of silver nesoi, for household, table or kitchen use, toilet and sanitary wares, including parts thereof.
7115.90.40 | Silver (including metal clad with silver) articles (o/than jewelry or silversmiths' wares), nesoi.
7115.90.60 | Articles of precious metal (o/than gold or silver), including metal clad with precious metal, nesoi.
7202.11.10 | Ferromanganese containing by weight more than 2 percent but not more than 4 percent of carbon.
7202.11.50 | Ferromanganese containing by weight more than 4 percent of carbon.
7202.30.00 | Ferrosilicon manganese
7202.49.10 | Ferrochromium containing by weight more than 3 percent but not more than 4 percent of carbon.
7202.49.50 | Ferrochromium containing by weight 3 percent or less of carbon.
7202.92.00 | Ferrovanadium.
7202.93.80 | Ferroniobium, nesoi.
7303.00.00 | Cast iron, tubes, pipes and hollow profiles.
7307.11.00 | Cast nonmalleable iron, fittings for tubes or pipes.
7311.00.00 | Iron/steel, containers for compressed or liquefied gas.
7315.19.00 | Iron or steel, parts of articulated link chain.
7317.00.10 | Iron or steel, thumb tacks.
7317.00.20 | Iron or steel, nails, tacks, corrugated nails, staples & similar arts., not threaded, suitable for use in powder-actuated hand tools.
7317.00.55 | Iron or steel, nails, tacks, corrugated nails, staples & similar arts., of one piece construction, made of round wire, nesoi.
7317.00.65 | Iron or steel, nails, tacks, corrugated nails, staples & similar arts., of one piece construction, not made of round wire, nesoi.
7317.00.75 | Iron or steel, nails, tacks, corrugated nails, staples & similar arts., of two or more pieces, nesoi.
7319.90.90 | Iron or steel, knitting needles, bodkins, crochet hooks, embroidery stilettos and similar articles for use in the hand.
7407.10.50 | Refined copper, bars and rods.
7407.21.90 | Copper-zinc base alloys (brass), bars & rods nesoi, not having a rectangular cross section.
7408.21.00 | Copper-zinc base alloys (brass), wire.
7408.29.10 | Copper alloys (o/than brass, cupro-nickel or nickel-silver), wire, coated or plated with metal.
7409.11.50 | Refined copper, plates, sheets and strip, in coils, with a thickness over 0.15mm but less than 5 mm.
7409.21.00 | Copper-zinc base alloys (brass), plates, sheets and strip, in coils.
7409.29.00 | Copper-zinc base alloys (brass), plates, sheets and strip, not in coils.
7409.31.50 | Copper-tin base alloys (bronze), plates, sheets and strip, in coils, with a thickness o/0.15mm but less than 5mm & a width of 500mm or more.
7409.31.90 | Copper-tin base alloys (bronze), plates, sheets and strip, in coils, w/thickness o/0.15mm but less than 5mm & a width of less than 500mm.
7409.40.00 | Copper-nickel base alloys (cupro-nickel) or copper-nickel-zinc base alloys (nickel silver), plates, sheets and strip, w/thickness o/0.15mm.
7409.90.90 | Copper alloys (o/than brass/bronze/cupro-nickel/nickel silver), plates, sheets & strip, w/thick. o/0.15mm but less th/5mm & width less 500mm.
7410.11.00 | Refined copper, foil, w/thickness of 0.15 mm or less, not backed.
7411.22.00 | Copper-nickel base alloys (cupro-nickel) or copper-nickel-zinc base alloys (nickel-silver), tubes and pipes.
7418.10.00 | Copper & copper alloy table, kitchen, household articles & parts; pot scourers, scouring & polishing pads, gloves, etc.
7506.20.05 | Nickel alloy, foil, w/thickness not over 0.15 mm.
7907.00.10 | Zinc, household, table or kitchen use articles; zinc toilet and sanitary wares; zinc parts of all the foregoing.
7907.00.20 | Zinc, tubes or pipes and fittings for tubes or pipes.
7907.00.60 | Zinc, articles (o/than for household, table or kitchen use), nesoi.
8112.92.40 | Niobium (columbium), unwrought; niobium powders.
8112.92.50 | Rhenium, unwrought; rhenium powders.
8112.99.20 | Vanadium, nesoi, and articles thereof.
8203.20.40 | Slip joint pliers.
8211.10.00 | Sets of assorted knives w/cutting blades serrated or not (including pruning knives).
8211.91.25 | Table knives w/fixed blades, w/stain. steel handles cont. Ni or ov 10% by wt of Mn, nesoi.
8211.91.30 | Table knives w/fixed blades, w/stain. steel handles, nesoi, not ov 25.9 cm in overall length & val less than 25 cents each.
8211.91.40 | Table knives w/fixed blades, w/stain. steel handles, nesoi.
8211.91.80 | Table knives w/fixed blades, w/handles other than of silver-plate, stainless steel, rubber or plastics.
8211.92.40 | Knives w/fixed blades (o/than table or kitchen and butcher knives), with rubber or plastic handles.
8211.92.60 | Hunting knives w/fixed blades, with wood handles.
8211.92.90 | Knives w/fixed blades (o/than table knives, other knives w/rubb./plast. handles, or hunting knives w/wood handles).
8214.90.30 | Butchers' or kitchen cleavers with their handles, nesoi, and base metal parts thereof.
8214.90.60 | Butchers' or kitchen chopping or mincing knives (o/than cleavers w/their handles), and base metal parts thereof.
8214.90.90 | Articles of cutlery, nesoi, and base metal parts of cutlery, nesoi.
8306.30.00 | Base metal photograph, picture or similar frames; base metal mirrors; base metal parts thereof.
8505.11.00 | Permanent magnets and articles intended to become permanent magnets after magnetization, of metal.
8539.10.00 | Sealed beam lamp units.
8711.40.30 | Motorcycles (incl. mopeds) and cycles, fitted w/recip. internal-combustion piston engine w/capacity o/500 cc but n/o 700 cc.
8714.10.00 | Pts. & access. for motorcycles (including mopeds).
8714.93.05 | Pts. & access. for bicycles & o/cycles, aluminum alloy hubs, w/hollow axle and lever-operated quick release mechanism.
8714.93.15 | Pts. & access. for bicycles & o/cycles, 3-speed hubs nesoi.
8714.93.35 | Pts. & access. for bicycles & o/cycles, non-variable speed hubs, nesoi.
8714.93.70 | Pts. & access. for bicycles & o/cycles, free-wheel sprocket-wheels.
9001.90.50 | Prisms, unmounted.
9001.90.80 | Half-tone screens designed for use in engraving or photographic processes, unmounted.
9002.11.40 | Projection lenses, mounted, and parts and accessories therefor, for cameras, projectors or photographic enlargers or reducers.
9002.11.60 | Mounted objective lenses for use in closed circuit television cameras, seperately imported, w/or w/o attached elec. connectors or motors.
9002.90.85 | Mounted lenses, n/obj., for use in closed circuit television cameras, seperately imported, w/or w/o attached elec. connectors or motors.
9005.10.00 | Binoculars.
9006.61.00 | Photographic discharge lamp (“electronic”) flashlight apparatus.
9013.10.10 | Telescopic sights for rifles not designed for use with infrared light.
9013.10.50 | Other telescopic sights for arms other than rifles; periscopes.
9015.30.80 | Levels, other than electrical.
9016.00.20 | Electrical balances of a sensitivity of 5 cg or better, with or without weights, and parts and accessories thereof.
9016.00.40 | Jewelers' balances (nonelectrical) of a sensitivity of 5 cg or better, with or without weights, and parts and accessories thereof.
9030.20.10 | Oscilloscopes and oscillographs, NESOI.
9105.29.10 | Wall clocks nesoi, not electrically operated, mvmt measuring n/o 50 mm, not designed or constr. to operate over 47 hrs without rewinding.
9105.29.30 | Wall clocks nesoi, not electrically operated, mvmt measuring n/o 50 mm, ov 1 jewel, constructed/designed to operate ov 47 hrs w/o rewinding.
9105.29.40 | Wall clocks nesoi, not electrically operated, movement measuring over 50 mm in width or diameter, valued not over $5 each.
9105.29.50 | Wall clocks nesoi, not electrically operated, movement measuring over 50 mm in width or diameter, valued over $5 each.
9106.10.00 | Time registers; time recorders.
9109.90.20 | Clock movements, complete and assembled, not electrically operated, measuring not over 50 mm in width or diameter.
9110.90.40 | Incomplete clock movements consisting of 2 or more pieces or parts fastened or joined together.
9603.30.40 | Artists' brushes, writing brushes and similar brushes for the application of cosmetics, valued o/5 cents but n/o 10 cents each.
9603.30.60 | Artists' brushes, writing brushes and similar brushes for the application of cosmetics, valued o/10 cents each.

Section 3—The products that are enumerated and described in Section 3 of this Annex are being considered for additional import duties if they are the product of Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, or Sweden.

HTS subheading | Product description
2208.30.30 | Irish and Scotch whiskies.
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.20.20 | Sweaters, pullovers and similar articles, knitted or crocheted, of cotton, nesoi.
6110.30.30 | Sweaters, pullovers and similar articles, knitted or crocheted, of manmade fibers, nesoi.
6202.99.15 | Rec perf outwear, women's/girls' anoraks, wind-breakers & similar articles, not k/c, tex mats (not wool, cotton or mmf), cont <70% by wt of silk.
6202.99.80 | Women's/girls' anoraks, wind-breakers & similar articles, not k/c, of tex mats (not wool, cotton or mmf), cont <70% by wt of silk.
6203.11.60 | Men's or boys' suits of wool, not knitted or crocheted, nesoi, of wool yarn with average fiber diameter of 18.5 micron or less.
6203.11.90 | Men's or boys' suits of wool or fine animal hair, not knitted or crocheted, nesoi.
6203.19.30 | Men's or boys' suits, of artificial fibers, nesoi, not knitted or crocheted.
6203.19.90 | Men's or boys' suits, of textile mats (except wool, cotton or mmf), containing under 70% by weight of silk or silk waste, not knit or croch.
6208.21.00 | Women's or girls' nightdresses and pajamas, not knitted or crocheted, of cotton.
6211.12.40 | Women's or girls' swimwear, of textile materials(except mmf), containing 70% or more by weight of silk or silk waste, not knit or crocheted.
6211.12.80 | Women's or girls' swimwear, of textile materials (except mmf), containing under 70% by weight of silk or silk waste, not knit or crocheted.
6301.30.00 | Blankets (other than electric blankets) and traveling rugs, of cotton.
6301.90.00 | Blankets and traveling rugs, nesoi.
6302.21.50 | Bed linen, not knit or crocheted, printed, of cotton, cont any embroidery, lace, braid, edging, trimming, piping or applique work, n/napped.
6302.21.90 | Bed linen, not knit or croc, printed, of cotton, not cont any embroidery, lace, braid, edging, trimming, piping or applique work, not napped.

Section 4—The products that are enumerated and described in Section 4 of this Annex are being considered for additional import duties if they are the product of Austria, Belgium, Bulgaria, Croatia, Cyprus, Czech Republic, Denmark, Estonia, Finland, France, Greece, Hungary, Ireland, Italy, Latvia, Lithuania, Luxembourg, Malta, Netherlands, Poland, Portugal, Romania, Slovakia, Slovenia, Spain, Sweden, or the United Kingdom.

HTS subheading | Product description
0901.21.00 | Coffee, roasted, not decaffeinated.
0901.22.00 | Coffee, roasted, decaffeinated.
2101.11.21 | Instant coffee, not flavored.
8201.40.60 | Axes, bill hooks and similar hewing tools (o/than machetes), and base metal parts thereof.
8203.20.20 | Base metal tweezers.
8203.20.60 | Pliers (including cutting pliers but not slip joint pliers), pincers and similar tools.
8203.30.00 | Metal cutting shears and similar tools, and base metal parts thereof.
8203.40.60 | Pipe cutters, bolt cutters, perforating punches and similar tools, nesoi, and base metal parts thereof.
8205.40.00 | Screwdrivers and base metal parts thereof.
8211.93.00 | Knives having other than fixed blades.
8211.94.50 | Base metal blades for knives having other than fixed blades.
8467.19.10 | Tools for working in the hand, pneumatic, other than rotary type, suitable for metal working.
8467.19.50 | Tools for working in the hand, pneumatic, other than rotary type, other than suitable for metal working.
8468.80.10 | Machinery and apparatus, hand-directed or -controlled, used for soldering, brazing or welding, not gas-operated.
8468.90.10 | Parts of hand-directed or -controlled machinery, apparatus and appliances used for soldering, brazing, welding or tempering.
8514.20.40 | Industrial or laboratory microwave ovens for making hot drinks or for cooking or heating food.
9002.11.90 | Objective lenses and parts & access. thereof, for cameras, projectors, or photographic enlargers or reducers, except projection, nesoi.

Section 5—The products that are enumerated and described in Section 5 of this Annex are being considered for additional import duties if they are the product of Austria, Belgium, Bulgaria, Croatia, Cyprus, Czech Republic, Denmark, Estonia, Finland, France, Greece, Hungary, Ireland, Italy, Latvia, Lithuania, Luxembourg, Malta, Netherlands, Poland, Portugal, Romania, Slovakia, Slovenia, Spain, or Sweden.

HTS subheading | Product description
1905.31.00 | Sweet biscuits.
1905.32.00 | Waffles and wafers.
4901.10.00 | Printed books, brochures, leaflets and similar printed matter in single sheets, whether or not folded.
4908.10.00 | Transfers (decalcomanias), vitrifiable.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
8429.52.10 | Self-propelled backhoes, shovels, clamshells and draglines with a 360 degree revolving superstructure.
8429.52.50 | Self-propelled machinery with a 360 degree revolving superstructure, other than backhoes, shovels, clamshells and draglines.
8467.29.00 | Electromechanical tools for working in the hand, other than drills or saws, with self-contained electric motor.

Section 6—The products that are enumerated and described in Section 6 of this Annex are being considered for additional import duties if they are the product of Austria, Belgium, Bulgaria, Croatia, Cyprus, Czech Republic, Denmark, Estonia, Finland, France, Greece, Hungary, Ireland, Italy, Latvia, Lithuania, Luxembourg, Malta, Netherlands, Poland, Portugal, Romania, Slovakia, Slovenia, or Sweden.

HTS subheading | Product description
0203.29.40 | Frozen meat of swine, other than retail cuts, nesoi.
0404.10.05 | Whey protein concentrates.
0406.10.84 | Fresh cheese, and substitutes for cheese, cont. cows milk, neosi, o/0.5% by wt. of butterfat, descr in add U.S. note 16 to Ch. 4, not GN15.
0406.10.88 | Fresh cheese, and substitutes for cheese, cont. cows milk, neosi, o/0.5% by wt. of butterfat, not descr in add U.S. note 16 to Ch. 4, not GN 15.
0406.10.95 | Fresh cheese, and substitutes for cheese, not cont. cows milk, neosi, o/0.5% by wt. of butterfat.
0406.90.16 | Edam and gouda cheese, nesoi, subject to add. U.S. note 20 to Ch. 4.
0406.90.56 | Cheeses, nesoi, from sheep's milk in original loaves and suitable for grating.
1509.10.20 | Virgin olive oil and its fractions, whether or not refined, not chemically modified, weighing with the immediate container under 18 kg.
1509.90.20 | Olive oil, other than virgin olive oil, and its fractions, not chemically modified, weighing with the immediate container under 18 kg.
2005.70.12 | Olives, green, not pitted, in saline, not ripe.
2005.70.25 | Olives, green, in a saline solution, pitted or stuffed, not place packed.

Section 7—The products that are enumerated and described in Section 7 of this Annex are being considered for additional import duties if they are the product of Austria, Belgium, Bulgaria, Croatia, Cyprus, Czech Republic, Denmark, Estonia, Finland, France, Greece, Hungary, Latvia, Lithuania, Luxembourg, Malta, Netherlands, Poland, Portugal, Romania, Slovakia, Slovenia, or Sweden.

HTS subheading | Product description
2208.70.00 | Liqueurs and cordials.

Section 8—The products that are enumerated and described in Section 8 of this Annex are being considered for additional import duties if they are the product of Austria, Belgium, Bulgaria, Croatia, Cyprus, Czech Republic, Denmark, Estonia, Finland, Greece, Hungary, Ireland, Italy, Latvia, Lithuania, Luxembourg, Malta, Netherlands, Poland, Portugal, Romania, Slovakia, Slovenia, or Sweden.

HTS subheading | Product description
0711.20.18 | Olives, n/pitted, green, in saline sol., in contain. >8 kg, drained wt, for repacking or sale, subject to add. U.S. note 5 to Ch. 7.
0711.20.28 | Olives, n/pitted, green, in saline sol., in contain. >8 kg, drained wt, for repacking or sale, not subject to add. U.S. note 5 to Ch. 7.
0711.20.38 | Olives, n/pitted, nesoi.
0711.20.40 | Olives, pitted or stuffed, provisionally preserved but unsuitable in that state for immediate consumption.
2005.70.08 | Olives, green, not pitted, in saline, not ripe, in containers holding o/8 kg for repkg, not subject to add. U.S. note 4 to Ch. 20.
2005.70.16 | Olives, green, in saline, place packed, stuffed, in containers holding n/o 1 kg, aggregate quantity n/o 2700 m ton/yr.
2005.70.23 | Olives, green, in saline, place packed, stuffed, not in containers holding 1 kg or less.
2204.21.50 | Wine other than Tokay (not carbonated), not over 14% alcohol, in containers not over 2 liters.

Section 9—The products that are enumerated and described in Section 9 of this Annex are being considered for additional import duties if they are the product of France, Lithuania, or Poland.

HTS subheading | Product description
0406.90.95 | Cheeses & subst. for cheese (incl. mixt.), nesoi, w/cows milk, w/butterfat o/0.5% by wt, subject to Ch. 4 U.S. note 16 (quota).

Section 10—The products that are enumerated and described in Section 10 of this Annex are being considered for additional import duties if they are the product of Finland, France, or Poland.

HTS subheading | Product description
0406.90.46 | Swiss or Emmentaler cheese with eye formation, nesoi, subject to add. U.S. note 25 to Ch. 4.

Section 11—The products that are enumerated and described in Section 11 of this Annex are being considered for additional import duties if they are the product of Denmark, France, or Poland.

HTS subheading | Product description
1602.49.20 | Pork other than ham and shoulder and cuts thereof, not containing cereals or vegetables, boned and cooked and packed in airtight containers.

Section 12—The products that are enumerated and described in Section 12 of this Annex are being considered for additional import duties if they are the product of France or Poland.

HTS subheading | Product description
0403.10.90 | Yogurt, not in dry form, whether or not flavored or containing add fruit or cocoa.
0405.10.10 | Butter subject to quota pursuant to chapter 4 additional U.S. note 6.
0405.10.20 | Butter not subject to general note 15 and in excess of quota in chapter 4 additional U.S. note 6.
0406.30.89 | Processed cheese (incl. mixtures), nesoi, w/cow's milk, not grated or powdered, subject to add U.S. note 16 to Ch. 4, not GN15.
0406.90.99 | Cheeses & subst. for cheese (incl. mixt.), nesoi, w/o cows milk, w/butterfat o/0.5% by wt, not GN15.
0811.90.80 | Fruit, nesoi, frozen, whether or not previously steamed or boiled.
1601.00.20 | Pork sausages and similar products of pork, pork offal or blood; food preparations based on these products.
2008.60.00 | Cherries, otherwise prepared or preserved, nesoi.
2008.70.20 | Peaches (excluding nectarines), otherwise prepared or preserved, not elsewhere specified or included.
2008.97.90 | Mixtures of fruit or other edible parts of plants, otherwise prepared or preserved, nesoi (excluding tropical fruit salad).
2009.89.65 | Cherry juice, concentrated or not concentrated.
2009.89.80 | Juice of any single vegetable, other than tomato, concentrated or not concentrated.

Section 13—The products that are enumerated and described in Section 13 of this Annex are being considered for additional import duties if they are the product of Bulgaria or France.

HTS subheading | Product description
0406.90.57 | Pecorino cheese, from sheep's milk, in original loaves, not suitable for grating.

Section 14—The products that are enumerated and described in Section 14 of this Annex are being considered for additional import duties if they are the product of France.

HTS subheading | Product description
0405.90.10 | Fats and oils derived from milk, other than butter or dairy spreads, subject to quota pursuant to chapter 4 additional U.S. note 14.
0406.30.51 | Gruyere-process cheese, processed, not grated or powdered, subject to add. U.S. note 22 to Ch. 4.
0406.30.53 | Gruyere-process cheese, processed, not grated or powdered, not subject to gen note 15 or add. U.S. note 22 to Ch. 4.
0406.40.54 | Blue-veined cheese, nesoi, in original loaves, subject to add. U.S. note 17 to Ch. 4.
0406.90.08 | Cheddar cheese, neosi, subject to add. U.S. note 18 to Ch. 4.
0406.90.12 | Cheddar cheese, nesoi, not subject to gen. note 15 of the HTS or to add. U.S. note 18 to Ch. 4.
0406.90.41 | Romano, Reggiano, Parmesan, Provolone, and Provoletti cheese, nesoi, from cow's milk, subject to add. U.S. note 21 to Ch. 4.
0406.90.42 | Romano, Reggiano, Parmesan, Provolone, and Provoletti cheese, nesoi, from cow's milk, not subj to to GN 15 or Ch. 4 U.S. note 21.
0406.90.48 | Swiss or Emmentaler cheese with eye formation, nesoi, not subject to gen. note 15 or to add. U.S. note 25 to Ch. 4.
0406.90.90 | Cheeses & subst. for cheese (incl. mixt.), nesoi, w/or from swiss, emmentaler or gruyere, subj. to add. U.S. note 22 to Ch.4, not GN15.
0406.90.97 | Cheeses & subst. for cheese (incl. mixt.), nesoi, w/cows milk, w/butterfat o/0.5% by wt, not subject to Ch4 U.S. note 16, not GN15.
1605.53.60 | Mussels, prepared or preserved.
2007.99.70 | Currant and berry fruit jellies.
2008.40.00 | Pears, otherwise prepared or preserved, nesoi.
2009.89.20 | Pear juice, concentrated or not concentrated.
2009.89.40 | Prune juice, concentrated or not concentrated.

Section 15—The products that are enumerated and described in Section 15 of this Annex are being considered for additional import duties if they are the product of Poland.

HTS subheading | Product description
0405.20.30 | Butter substitute dairy spreads, over 45% butterfat weight, not subj to gen note 15 and in excess of quota in ch. 4 additional U.S. note 14.
0405.20.80 | Other dairy spreads, not butter substitutes or of a type provided for in chapter 4 additional U.S. note 1.
0406.30.85 | Processed cheese (incl. mixtures), nesoi, n/o 0.5% by wt. butterfat, not grated or powdered, subject to Ch. 4 U.S. note 23, not GN15.
0406.90.78 | Cheeses & subst. for cheese (incl. mixt.), nesoi, w/or from cheddar cheese, not subj. to add. U.S. note 18 to Ch.4, not GN15.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.40 | Prepared or preserved pork, not containing cereals or vegetables, nesoi.
1602.49.90 | Prepared or preserved pork, nesoi.

Section 16—The products that are enumerated and described in Section 16 of this Annex are being considered for additional import duties if they are the product of the United Kingdom.

Note: For purposes of the subheading listed below, the informal product description defines and limits the scope of the proposed action and is intended to cover only a subsection of the subheading.

HTS subheading | Product description
2208.30.30 | Irish and Scotch whiskies, other than Single-malt.

[FR Doc. 2019-26741 Filed 12-11-19; 8:45 am]

BILLING CODE 3290-F0-P